DEPARTMENT OF DEFENSE

Department of the Army, Corps of Engineers

Notice of Availability of the Draft Environmental Impact Statement for the Nebraska Highway 12 Niobrara East and West Project, Knox County, NE

AGENCY: U.S. Army Corps of Engineers, DoD.

ACTION: Notice of availability.

SUMMARY: The U.S. Army Corps of Engineers (Corps), Omaha District, has prepared a Draft Environmental Impact Statement (EIS) to analyze the direct, indirect and cumulative effects of a proposed Nebraska State Highway project, Nebraska Highway 12 Niobrara East and West Project by the Nebraska Department of Roads (NDOR). The Applied-for Project is the relocation and elevation (including additional bridges) of two segments of existing Nebraska Highway 12 (N-12) that are frequently flooded and have incurred damage due to high water levels associated with the Missouri River.

DATES: Written comments on the Draft EIS will be accepted on or after October 9, 2015, through November 23, 2015. Oral and/or written comments may also be presented at the Public Hearing to be held at 6:00 p.m. on Monday, November 9, 2015, at the Niobrara Secondary School, located at 247 NE-12, Niobrara, NE 68760.

ADDRESSES: Send written comments regarding the Applied-for Project and Draft EIS to Rebecca J. Latka, Project Manager, U.S. Army Corps of Engineers, Omaha District, Regulatory Branch, 1616 Capitol Avenue, Omaha, NE 68102-4901, or via email at Rebecca.J.Latka@usace.army.mil. Requests to be placed on or removed from the mailing list should also be sent to this address.

Copies of the Draft EIS will be available for review at the addresses listed in the SUPPLEMENTARY INFORMATION section.

Electronic copies of the Draft EIS may be obtained from the Nebraska Regulatory Office or its Web site at http://www.nwo.usace.army.mil/Missions/RegulatoryProgram/Nebraska/EISHighway12.aspx.

FOR FURTHER INFORMATION CONTACT: Rebecca J. Latka, Project Manager, U.S. Army Corps of Engineers, at 402-995-2681; fax 402-996-3842.

SUPPLEMENTARY INFORMATION: The purpose of the Draft EIS is to provide a full and fair discussion of the Applied-for Project and other reasonable alternatives to inform decision makers and the public of the environmental impacts of the Applied-for Project and the reasonable alternatives. NDOR has submitted a Section 404 (Clean Water Act) permit application containing a roadway design for Alternative A7 (the Applied-for Project) to the U.S. Army Corps of Engineers (Corps). NDOR proposes to relocate N-12 east and west of Niobrara, NE., south of its existing location and construct a new roadway at a higher elevation with enhanced bridged sections to withstand existing and future flood events. The segment of N-12 that is in the bluffs, including the segment that goes through the Village of Niobrara, will remain the same. Two segments of N-12 within the existing Missouri River floodplain would be relocated. The west segment is approximately 6.2 miles long and extends from just east of Verdel, Nebraska, on the west end to 2 miles west of the bridge over the Niobrara River. The Applied-for Project would deviate from the existing alignment just east of Ponca Creek and would rejoin the existing alignment just north of County Road 892. The east segment is approximately 6 miles long and extends from just east of Spruce Avenue in Niobrara, NE., to approximately 1 mile east of Spur 54D (S-54D). In the east segment, the alignment would deviate from the existing alignment east of 4th Avenue in Niobrara, NE., and would reconnect with existing N-12 at approximately S-54D. A new connection to the Chief Standing Bear Memorial Bridge (N-14) and SD-37 would be developed, tying into the existing Highway 14 connection (which will be elevated as part of the project). Once the roads are completed, the existing N-12 roadway would be removed to the existing ground level. In addition to the Applied-for Project, the Draft EIS analyzes three alternatives: (1) Elevation Raise on Existing Alignment, (2) Elevation Raise on Parallel Alignment, (3) Base of Bluffs Alignment. The National Park Service, U.S. Environmental Protection Agency, U.S. Fish and Wildlife Service, Federal Highway Administration, and Knox County are serving as cooperating agencies. The Nebraska Game and Parks Commission and Nebraska Department of Environmental Quality are participating as review agencies. Copies of the document are available at the following addresses:

1. Niobrara Public Library/Niobrara Civic Center, 25414 Park Avenue Ste 3, Niobrara, NE 68760-0015

2. Tyndall City Library, 110 W 17th Avenue, Tyndall, SD 57066

3. Verdel City Office, 202 Second St., Verdel, NE 68760

4. Verdigre City Public Library, 101 E 3rd Street, Verdigre, NE 68783

5. Springfield City Library, 605 8th Street, Springfield, SD 57062

6. Knox County Extension Office, 308 Bridge Street, Center, NE 68724

7. U.S. Army Corps of Engineers, Lewis and Clark Visitor Center, 55245 Hwy 121, Croften, NE 68730

8. U.S. Army Corps of Engineers, Nebraska Regulatory Office, Lake Wehrspann Field Office, 8901 S. 154th Street, Omaha, NE 68138-3621

9. Corps of Discovery Welcome Center, 89705 Highway 81, Crofton, NE 68730

Dated: September 30, 2015.
Joseph McMahan,
Chief Regulatory Field Support, Omaha District.

[FR Doc. 2015-25845 Filed 10-8-15; 8:45 am]

BILLING CODE 3720-58-P